DEPARTMENT OF HEALTH AND HUMAN SERVICES

Centers for Disease Control and Prevention

[CDC-2018-0024; Docket Number NIOSH-302]

Final National Occupational Research Agenda for Respiratory Health

AGENCY: National Institute for Occupational Safety and Health (NIOSH) of the Centers for Disease Control and Prevention (CDC), Department of Health and Human Services (HHS).

ACTION: Notice of availability.

SUMMARY: NIOSH announces the availability of the final National Occupational Research Agenda for Respiratory Health.

DATES: The final document was published on January 16, 2019 on the CDC website.

ADDRESSES: The document may be obtained at the following link: https://www.cdc.gov/nora/councils/resp/agenda.html.

FOR FURTHER INFORMATION CONTACT: Emily Novicki, M.A., M.P.H, (NORACoordinator@cdc.gov), National Institute for Occupational Safety and Health, Centers for Disease Control and Prevention, Mailstop E-20, 1600 Clifton Road NE, Atlanta, GA 30329, phone (404) 498-2581 (not a toll free number).

SUPPLEMENTARY INFORMATION: On March 15, 2018, NIOSH published a request for public review in the Federal Register [83 FR 11537 and 83 FR 19768] of the draft version of the National Occupational Research Agenda for Respiratory. All comments received were reviewed and addressed where appropriate.

John J. Howard,
Director, National Institute for Occupational Safety and Health, Centers for Disease Control and Prevention.

[FR Doc. 2019-01046 Filed 2-4-19; 8:45 am]

BILLING CODE 4163-19-P